COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete services from the Procurement List that will be provided by nonprofit agencies employing persons who are blind or have other severe disabilities.

Comments Must Be Received On Or Before: 3/6/2016.

ADDRESSES: Committee for Purchase From People Who Are Blind or Severely Disabled, 1401 S. Clark Street, Suite 715, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following services are proposed for deletion from the Procurement List:

Services:

Service Type: Parts Sorting Service

Service is Mandatory for: Oklahoma City Air Logistics Center, Bldg 3, Suite 20, Tinker AFB, OK

Mandatory Source(s) of Supply: NewView Oklahoma, Inc., Oklahoma City, OK

Contracting Activity: Dept of the Air Force, FA7014 AFDW PK, Andrews AFB, MD

Service Type: Packaging Service

Service is Mandatory for: Hurlburt Field Air Force Base, 304 Terry Avenue, Hurlburt Field, FL

Mandatory Source(s) of Supply: Lakeview Center, Inc., Pensacola, FL

Contracting Activity: Dept of the Air Force, FA4417 1 SOCONS LGC, Hurlburt Field, FL

Service Type: Preparation of Oil Sample Kits Service

Service is Mandatory for: Pensacola Naval Air Station, Pensacola, FL

Mandatory Source(s) of Supply: Lakeview Center, Inc., Pensacola, FL

Contracting Activity: Dept of the Navy, Naval Air Warfare Center Air Div, Patuxent River, MD

Barry S. Lineback,
Director, Business Operations.

[FR Doc. 2016-02273 Filed 2-4-16; 8:45 am]

BILLING CODE 6353-01-P